DEPARTMENT OF LABOR

Employment and Training Administration

[NAFTA-04107 and NAFTA-04107A]

American Bag Corporation, Stearns, KY; American Bag Corporation, Winfield, TN; Amended Certification Regarding Eligibility To Apply for NAFTA-Transitional Adjustment Assistance

In accordance with Section 250(a), Subchapter D, Chapter 2, Title II, of the Trade Act of 1974, as amended (19 USC 2273), the Department of Labor issued a Certification of Eligibility to Apply for NAFTA Transitional Adjustment Assistance on September 20, 2000, applicable to workers of American Bag Corporation, Stearns, Kentucky. The notice was published in the Federal Register on October 12, 2000 (65 FR 60687).

At the request of the company, the Department reviewed the certification for workers of the subject firm. The company reports that worker separations occurred at the Winfield, Tennessee facility of American Bag Corporation. The workers are engaged in the production of air bags.

The intent of the Department's certification is to include all workers of American Bag Corporation affected by increased imports from Canada and Mexico. Accordingly, the Department is amending the certification to include workers of American Bag Corporation, Winfield, Tennessee.

The amended notice applicable to NAFTA-04107 is hereby issued as follows:

All workers of American Bag Corporation, Stearns, Kentucky (NAFTA-04107) and Winfield, Tennessee (NAFTA-04107A) who became totally or partially separated from employment on or after August 23, 1999 through September 20, 2002, are eligible to apply for NAFTA-TAA under Section 250 of the Trade Act of 1974.

Signed in Washington, DC, this 23rd day of October, 2000.
Linda G. Poole,
Certifying Officer, Division of Trade Adjustment Assistance.

[FR Doc. 00-28030 Filed 10-31-00; 8:45 am]

BILLING CODE 4510-30-M